NATIONAL CREDIT UNION ADMINISTRATION

Sunshine Act; Notice of a Matter To Be Deleted From the Open Agenda and Added to the Closed Agenda for Consideration at an Agency Meeting

Time and Date: 3 p.m., Thursday, March 19, 2009.

Place: Board Room, 7th Floor, Room 7047, 1775 Duke Street, Alexandria, VA 22314-3428.

Status: Open.

Matter To Be Deleted: 1. Request from Citadel Federal Credit Union for a Community Charter Expansion.

Time and Date: 4:15 p.m., Thursday, March 19, 2009.

Place: Board Room, 7th Floor, Room 7047, 1775 Duke Street, Alexandria, VA 22314-3428.

Status: Closed.

Matter To Be Added: 2. Request from Citadel Federal Credit Union for a Community Charter Expansion. Closed pursuant to Exemptions (4) and (8).

FOR FURTHER INFORMATION CONTACT: Mary Rupp, Secretary of the Board, Telephone: 703-518-6304.

Mary Rupp,
Board Secretary.

[FR Doc. E9-6243 Filed 3-18-09; 4:15 pm]

BILLING CODE 7535-01-P